DEPARTMENT OF TRANSPORTATION

Federal Aviation Administration

14 CFR Part 39

[Docket No. FAA-2014-0455; Directorate Identifier 2014-NM-006-AD; Amendment 39-18247; AD 2015-17-14]

RIN 2120-AA64

Airworthiness Directives; Airbus Airplanes

AGENCY: Federal Aviation Administration (FAA), Department of Transportation (DOT).

ACTION: Final rule.

SUMMARY: We are adopting a new airworthiness directive (AD) for all Airbus Model A319, A320, and A321 series airplanes. This AD was prompted by reports that during a full scale fatigue test, several broken frames in certain areas of the cargo compartment have been found, especially on the cargo floor support fittings and open tack holes on the left-hand side. This AD requires a rototest inspection of the open tack holes and rivet holes at the cargo floor support fittings of the fuselage, including doing all applicable related investigative actions, and repair if necessary. We are issuing this AD to detect and correct cracking in the open tack holes and rivet holes at the cargo floor support fittings of the fuselage, which could affect the structural integrity of the airplane.

DATES: This AD becomes effective October 2, 2015.

The Director of the Federal Register approved the incorporation by reference of certain publications listed in this AD as of October 2, 2015.

ADDRESSES: You may examine the AD docket on the Internet at http://www.regulations.gov/#!docketDetail;D=FAA-2014-0455; or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-0455.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 by adding an AD that would apply to all Airbus Model A319, A320, and A321 series airplanes. The NPRM published in the Federal Register on July 23, 2014 (79 FR 42716).

The European Aviation Safety Agency (EASA), which is the Technical Agent for the Member States of the European Union, has issued EASA Airworthiness Directive 2013-0310, dated December 20, 2013 (referred to after this as the Mandatory Continuing Airworthiness Information, or “the MCAI”), to correct an unsafe condition for all Airbus Model A319, A320, and A321 series airplanes. The MCAI states:

During a full scale fatigue test, several broken frames in the cargo compartment area between Frame (FR) 50 and FR 63, have been found, especially on the cargo floor support fittings and open tack holes on [the] left hand side.

This condition, if not detected and corrected, could affect the structural integrity of the aeroplane.

For the reason described above, this [EASA] AD requires repetitive inspections of the frames in the cargo compartment area and of the cargo floor support fittings and open tack holes on the left hand (LH) side, and depending on findings, the accomplishment of applicable corrective action(s). This [EASA] AD also requires a modification, which constitutes terminating action for the repetitive inspections required by this [EASA] AD.

The actions in this AD include a rototest inspection for cracking of the open tack holes and rivet holes at the cargo floor support fittings of the fuselage; modification of the fuselage, including doing all applicable related investigative actions; and repair if necessary. Related investigative actions include rotating probe inspections for cracking of the holes. You may examine the MCAI in the AD docket on the Internet at http://www.regulations.gov/#!documentDetail;D=FAA-2014-0455-0002.

Comments

We gave the public the opportunity to participate in developing this AD. The following presents the comments received on the NPRM (79 FR 42716, July 23, 2014) and the FAA's response to each comment.

Requests To Remove Service Information Not Applicable to the U.S. Fleet

Delta Air Lines (DAL), United Airlines (UAL), and US Airways requested that certain service information be removed from the NPRM (79 FR 42716, July 23, 2014) as it is not applicable to the U.S. fleet.

DAL stated that Airbus Service Bulletin A320-53-1261, dated December 21, 2012, which provides a terminating modification for the repetitive inspections specified in the NPRM (79 FR 42716, July 23, 2014), is one of eight structural modification service bulletins required to operate Model A320 airplanes beyond 48,000 flight cycles/96,000 flight hours (referred to as extended service goal (ESG)). DAL stated that Airbus Service Bulletin A320-53-1261, dated December 21, 2012, does not affect DAL or any other U.S. operator, since Airbus only recognizes airplane effectivity for those operators that have accomplished this service bulletin (which can only be purchased from Airbus) through ESG embodiment.

UAL and US Airways stated that, in paragraph (h) of the proposed AD (79 FR 42716, July 23, 2014), modification of the fuselage in accordance with Airbus Service Bulletin A320-53-1261, dated December 21, 2012, must be accomplished before exceeding 48,000 total flight cycles or 96,000 total flight hours, whichever occurs first. UAL and US Airways stated that Airbus Service Bulletin A320-53-1261, dated December 21, 2012, is not effective for all manufacturer serial numbers specified in the service information and is only applicable to a select number of operators. UAL commented that Airbus Service Bulletin A320-53-1261, dated December 21, 2012, was originally related to the ESG modification requirements and has not yet been revised to match the effective manufacturer serial numbers in specified Airbus Service Bulletin A320-53-1257, dated December 21, 2012.

We agree with these commenters' requests. Airbus Service Bulletin A320-53-1261, dated December 21, 2012, does not apply to the U.S. fleet because the terminating action is not applicable for all manufacturer serial numbers. Therefore, we have deleted the modification requirement that was specified in paragraph (h) of the proposed AD (79 FR 42716, July 23, 2014), and have redesignated subsequent paragraphs accordingly.

Request To Revise Certain Service Information

DAL also requested that the FAA ask Airbus to update the Effectivity in Airbus Service Bulletin A320-53-1261, dated December 21, 2012, along with the other structural modification service information required for operation beyond 48,000 total flight cycles/96,000 total flight hours.

We disagree with this request. As we stated previously, we have deleted the modification requirement that was specified in paragraph (h) of the proposed AD (79 FR 42716, July 23, 2014). In addition, we do not agree with delaying this action for mitigating safety risks addressed in this AD until after the release of the manufacturer's additional planned service bulletin(s). We have not changed this AD in this regard.

Request for Separate AD for the Structural Modification

DAL requested that a separate AD be issued that would specify all required service information for the modification in paragraph (h) of the proposed AD (79 FR 42716, July 23, 2014), which must be accomplished prior to operation beyond 48,000 total flight cycles/96,000 total flight hours for affected manufacturer serial numbers.

We disagree with issuing a separate AD action that would require all modifications associated with operations exceeding 48,000 total flight cycles/96,000 total flight hours (referred to as ESG). ESG is not related to the unsafe condition in this AD. ESG is not a requirement, but an option to operate with an extended operational limit of 60,000 total flight cycles/120,000 total flight hours and is contingent on accomplishment of specific modifications. This AD is specific to mitigating the risks associated with the identified unsafe condition, which were identified during full scale fatigue testing. Choosing the option to operate airplanes exceeding 48,000 total flight cycles/96,000 total flight hours lies with the operator and has no bearing on the mitigation of the unsafe condition identified in this AD. We have not changed this AD in this regard.

Requests To Identify Actions Required for Compliance

DAL and UAL requested a statement in the NPRM (79 FR 42716, July 23, 2014) to specify the actions that are required for compliance (RC) in Airbus Service Bulletin A320-53-1257, dated December 21, 2012.

UAL stated that paragraph 3.C. of the Accomplishment Instructions of Airbus Service Bulletin A320-53-1257, dated December 21, 2012, meets the technical intent of the inspection in the service information as that paragraph specifies removal of the affected fasteners, accomplishment of the rototest inspection, and re-installation of the fasteners. UAL stated that the access and close-up actions may then be specified by the operator as deemed necessary. UAL commented that paragraph (g) of the proposed AD (79 FR 42716, July 23, 2014) could specify that the inspection be performed in accordance with paragraph 3.C. of the Accomplishment Instructions of Airbus Service Bulletin A320-53-1257, dated December 21, 2012.

DAL stated that the FAA issued Advisory Circular (AC) 20-176 in December 2011 and AC 20-176A in June 2014 (http://rgl.faa.gov/Regulatory_and_Guidance_Library/rgAdvisoryCircular.nsf/0/979ddd1479e1ec6f86257cfc0052d4e9/$FILE/AC%2020-176A.pdf); and Order 8110.117A, dated June 18, 2014 (http://rgl.faa.gov/Regulatory_and_Guidance_Library/rgOrders.nsf/0/d715cdfc08ac0ddc86257cfc00528297/$FILE/110.117A.pdf), which provides guidance for issuing service information related to ADs. DAL commented that paragraph 2-10 of AC 20-176A states that “steps that have a direct effect on detecting, preventing, resolving, or eliminating the unsafe condition in an AD should be identified in a SB with “RC” (Required for Compliance”). DAL stated that there are no “RC” identifiers in the work steps of Airbus Service Bulletin A320-53-1257, dated December 21, 2012.

DAL also requested that the FAA evaluate service bulletins for adherence to the guidance provided in AC 20-176A, dated June 16, 2014 (http://rgl.faa.gov/Regulatory_and_Guidance_Library/rgAdvisoryCircular.nsf/0/979ddd1479e1ec6f86257cfc0052d4e9/$FILE/AC%2020-176A.pdf); and Order 8110.117A, dated June 18, 2014 (http://rgl.faa.gov/Regulatory_and_Guidance_Library/rgOrders.nsf/0/d715cdfc08ac0ddc86257cfc00528297/$FILE/110.117A.pdf), when proposing new AD's.

We agree with the concept of minimizing AD requirements when appropriate. The FAA released AC 20-176A, dated June 16, 2014 (http://rgl.faa.gov/Regulatory_and_Guidance_Library/rgAdvisoryCircular.nsf/0/979ddd1479e1ec6f86257cfc0052d4e9/$FILE/AC%2020-176A.pdf); and Order 8110.117A, dated June 18, 2014 (http://rgl.faa.gov/Regulatory_and_Guidance_Library/rgOrders.nsf/0/d715cdfc08ac0ddc86257cfc00528297/$FILE/110.117A.pdf), which include the concept of RC. The FAA has begun implementing this concept in ADs when we receive service information containing RC steps. While some design approval holders have implemented the RC concept, the implementation is voluntary. The FAA does not intend to develop or revise AD requirements to incorporate the RC concept if it is not included in the service information.

However for this AD, we reviewed Airbus Service Bulletin A320-53-1257, dated December 21, 2012, and determined that the procedures in paragraph 3.C., “Procedure,” are necessary to address the identified unsafe condition. All other steps in the Accomplishment Instructions may be deviated from using accepted methods in accordance with the operator's maintenance or inspection program without obtaining approval of an alternative method of compliance (AMOC), provided the procedures in paragraph 3.C., “Procedures,” can be done and the airplane can be put back in a serviceable condition. We have revised paragraph (g) of this AD to refer to procedures in paragraph 3.C., “Procedures,” of the Accomplishment Instructions of Airbus Service Bulletin A320-53-1257, dated December 21, 2012.

Conclusion

We reviewed the relevant data, considered the comments received, and determined that air safety and the public interest require adopting this AD with the changes described previously and minor editorial changes. We have determined that these minor changes:

• Are consistent with the intent that was proposed in the NPRM (79 FR 42716, July 23, 2014) for correcting the unsafe condition; and

• Do not add any additional burden upon the public than was already proposed in the NPRM (79 FR 42716, July 23, 2014).

We also determined that these changes will not increase the economic burden on any operator or increase the scope of this AD.

Related Service Information Under 1 CFR Part 51

We reviewed Airbus Service Bulletin A320-53-1257, dated December 21, 2012. The service information describes procedures for a rototest inspection of the open tack holes and rivet holes at the cargo floor support fittings between frame (FR) 50 and FR 63 (left-hand side only) for Model A320 and A321 series airplanes and FR 53 and FR 63 (left-hand side only) for Model A319 series airplanes of the fuselage, including other actions, and repair if necessary. This service information is reasonably available because the interested parties have access to it through their normal course of business or by the means identified in the ADDRESSES section of this AD.

Costs of Compliance

We estimate that this AD affects 847 airplanes of U.S. registry.

We also estimate that it would take about 471 work-hours per product to comply with the basic requirements of this AD. The average labor rate is $85 per work-hour. Required parts (for the modification) would cost about $6,570 per product. Based on these figures, we estimate the cost of this AD on U.S. operators to be $39,474,435, or $46,605 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0455; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-17-14 Airbus: Amendment 39-18247. Docket No. FAA-2014-0455; Directorate Identifier 2014-NM-006-AD.

(a) Effective Date

This AD becomes effective October 2, 2015.

(b) Affected ADs

None.

(c) Applicability

This AD applies to Airbus Model A319-111, -112, -113, -114, -115, -131, -132, and -133 airplanes; Model A320-211, -212, -214, -231, -232, and -233 airplanes; and Model A321-111, -112, -131, -211, -212, -213, -231, and -232 airplanes; certificated in any category; all manufacturer serial numbers.

(d) Subject

Air Transport Association (ATA) of America Code 53, Fuselage.

(e) Reason

This AD was prompted by reports that, during a full scale fatigue test, several broken frames in certain areas of the cargo compartment have been found, especially on the cargo floor support fittings and open tack holes on the left-hand (LH) side. We are issuing this AD to detect and correct cracking in the open tack holes and rivet holes at the cargo floor support fittings of the fuselage, which could affect the structural integrity of the airplane.

(f) Compliance

Comply with this AD within the compliance times specified, unless already done.

(g) Inspection

At the applicable compliance times specified in paragraphs (g)(1) through (g)(3) of this AD: Do a rototest inspection for cracking of the open tack holes and rivet holes at the cargo floor support fittings of the fuselage between frame (FR) 50 and FR 63 left-hand (LH) side only for Model A320 series airplanes, and A321 series airplanes; and between FR 53 and FR 63 LH side only for Model A319 series airplanes; in accordance with paragraph 3.C., “Procedures,” of the Accomplishment Instructions of Airbus Service Bulletin A320-53-1257, dated December 21, 2012. Repeat the inspection thereafter at intervals not to exceed 5,000 flight cycles or 10,000 flight hours, whichever occurs first.

(1) For airplanes that have equal to or more than 45,000 total flight cycles or 90,000 total flight hours as of the effective date of this AD: Do the rototest inspection within 1,000 flight cycles or 2,000 flight hours after the effective date of this AD, whichever occurs first.

(2) For airplanes that have equal to or more than 36,200 total flight cycles or 72,400 total flight hours, but less than 45,000 total flight cycles or 90,000 total flight hours as of the effective date of this AD: Do the rototest inspection within 2,000 flight cycles or 4,000 flight hours after the effective date of this AD, whichever occurs first, but no later than before the accumulation of 46,000 total flight cycles or 92,000 total flight hours, whichever occurs first.

(3) For airplanes that have less than 36,200 total flight cycles or 72,400 total flight hours as of the effective date of this AD: Do the rototest inspection before exceeding 38,200 total flight cycles or 76,400 total flight hours, whichever occurs first.

(h) Corrective Action

If any crack is found during any inspection required by this AD: Before further flight, repair using a method approved by the Manager, International Branch, ANM-116, Transport Airplane Directorate, FAA; or the European Aviation Safety Agency (EASA); or Airbus's EASA Design Organization Approval (DOA). If approved by the DOA, the approval must include the DOA-authorized signature.

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(j) Related Information

Refer to Mandatory Continuing Airworthiness Information (MCAI) EASA Airworthiness Directive 2013-0310, dated December 20, 2013, for related information. This MCAI may be found in the AD docket on the Internet at http://www.regulations.gov/#!documentDetail;D=FAA-2014-0455-0002.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1257, dated December 21, 2012.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 13, 2015.
Suzanne Masterson,
Acting Manager, Transport Airplane Directorate, Aircraft Certification Service.

[FR Doc. 2015-20951 Filed 8-27-15; 8:45 am]

BILLING CODE 4910-13-P